DEPARTMENT OF ENERGY

10 CFR Parts 429 and 430

[EERE-2022-BT-TP-0028]

RIN 1904-AF49

Energy Conservation Program: Test Procedures for Central Air Conditioners and Heat Pumps

AGENCY: Office of Energy Efficiency and Renewable Energy, Department of Energy.

ACTION: Final rule; further delay of effective date.

SUMMARY: This document further delays the effective date of a recently published final rule amending the test procedures for central air conditioners and heat pumps.

DATES: As of March 20, 2025, the effective date of the rule amending 10 CFR parts 429 and 430 published in the Federal Register at 90 FR 1224 on January 7, 2025, is delayed until May 20, 2025. The incorporation by reference approval published at 90 FR 1224 on January 7, 2025, is delayed to May 20, 2025.

FOR FURTHER INFORMATION CONTACT: Dr. Pradeep Prathibha, U.S. Department of Energy, Office of Energy Efficiency and Renewable Energy, Building Technologies Office, EE-5B, 1000 Independence Avenue SW, Washington, DC 20585-0121. Telephone: (240) 255-0630. Email: ApplianceStandardsQuestions@ee.doe.gov.

Mr. Pete Cochran, U.S. Department of Energy, Office of the General Counsel, GC-33, 1000 Independence Avenue SW, Washington, DC 20585-0121. Telephone: (202) 586-4798. Email: peter.cochran@hq.doe.gov.

SUPPLEMENTARY INFORMATION: On January 20, 2025, President Trump issued the “Regulatory Freeze Pending Review” memorandum published in the Federal Register on January 25, 2025 (90 FR 8249). This presidential action ordered all executive departments and agencies to consider postponing for 60- days the effective date of certain rules published in the Federal Register for the purpose of reviewing any questions of fact, law, and policy that the rules may raise. Additionally, executive departments and agencies were to consider opening a comment period to allow interested parties to provide comments about issues of fact, law, and policy raised by the rules postponed under the memorandum.

Consistent with the Presidential Memorandum of January 20, 2025, the U.S. Department of Energy (“DOE”) delayed the effective date of its final rule amending the test procedures for central air conditioners and heat pumps (CAC/HP) published in the Federal Register on January 7, 2025 (90 FR 1224) to March 21, 2025. 90 FR 9001 (Feb. 5, 2025). DOE also requested comments on the impacts of a further delay of the test procedures as well as legal, factual, or policy issues raised by the rule.

DOE received comments in response to the February 2025 delay of effective date from the interested parties listed in Table 1.

Table 1—List of Commenters in Response to the February 2025 Delay of Effective Date
Commenter(s) | Abbreviation | Comment No. | Commenter type
Air-Conditioning, Heating, and Refrigeration Institute | AHRI | 48 | Trade Association.
Robert Bosch LLC | Bosch | 51 | Manufacturer.
Pacific Gas and Electric Company, San Diego Gas and Electric, and Southern California Edison | CA IOUs | 56 | Utilities.
Carrier Global Corporation | Carrier | 45 | Manufacturer.
Daikin Comfort Technologies North America Inc Daikin 36 and 40 Manufacturer | Daikin | 57 | Manufacturer.
Fujitsu General America, Inc | FGAI | 59 | Manufacturer.
GE Appliances | GE Appliances | 50 | Manufacturer.
Johnson Controls | JCI | 52 | Manufacturer.
Appliance Standards Awareness Project, American Council for an Energy-Efficient Economy, National Consumer Law Center | Joint Advocates | 55 | Advocacy Organizations.
Lennox International Inc | Lennox | 46 | Manufacturer.
LG Electronics U.S.A., Inc | LG | 54 | Manufacturer.
Mitsubishi Electric US | Mitsubishi | 47 | Manufacturer.
Northwest Energy Efficiency Alliance | NEEA | 49 | Advocacy Organization.
Rheem Manufacturing Company | Rheem | 53 | Manufacturer.
Trane Technologies | Trane | 58 | Manufacturer.

A parenthetical reference at the end of a comment quotation or paraphrase provides the location of the item in the public record.¹

¹ The parenthetical reference provides a reference for information located in the docket of DOE's rulemaking to develop test procedures for CAC/HPs. (Docket No. EERE-2022-BT-TP-0028, which is maintained at: www.regulations.gov). The references are arranged as follows: (commenter name, comment docket ID number at page of that document).

Several commenters, including CAC/HP manufacturers, stated that DOE should not delay the effective date of test procedure.² Specifically, these commenters note that the test procedures incorporate latest industry standards, which were developed by a broad group of stakeholders. Additionally, these commenters assert that the test procedure is reasonable designed to measure energy efficiency without being unduly burdensome to conduct.

² CA IOUs, Doc. No. 56 at 2; Carrier, Doc. No. 45 at 1-2; Joint Advocates, Doc. No. 55 at 1; Lennox, Doc. No. 46 at 1; NEEA, Doc. No. 49 at 1, 6; Trane, Doc. No. 58 at 2.

However, other commenters, also including CAC/HP manufacturers, supported delaying the effective date of the test procedure or delaying in the enforcement of a specific aspect of the test procedure, the controls verification procedure (CVP). These commenters note that the CVP is new and that manufacturers need additional time to determine whether the tests are accurate and repeatable, as well as not unduly burdensome to conduct. (JCI, Doc. No. 52 at 1-2; Bosch, Doc. No. 51 at 2; LG, Doc. No. 54 at 1). AHRI, the organization that adopted an industry standard that included the CVP, recommends that DOE defer the effective date of the CVP enforcement provisions until after finalized tolerances have been supported by test data. (AHRI, Doc. No. 48 at 2). AHRI reports that it is currently analyzing CVP test data collected by third-party test laboratories and will work to collect additional data during the 2025 certification year. AHRI and others recommend that DOE defer enforcing the CVP provisions until after this analysis is complete (estimated to be July 2026). (Id.; Bosch, Doc. No. 51 at 2; Daikin, Doc. No. 57 at 3; Rheem, Doc. No. 53 at 2). In the alternative, commenters suggested that DOE exercise enforcement discretion to delay the CVP enforcement provisions. (Daikin, Doc No. 57 at 2; GE, Doc. No. 50 at 3).

In addition to concerns related to the consistency and repeatability of the CVP test, commenters also expressed concern related to the potential regulatory burden. Specifically, Daikin stated that, after it tested several models, it determined that CVP will require re-design of some existing products. (Daikin, Doc No. 57. at 4). Daikin also asserted that the cost of conducting CVP tests is a heavy burden on manufacturers. (Id.; see JCI, Doc. No. 52 at 2; Mitsubishi, Doc. No. 47 at 2).

DOE is still in the process of reviewing questions of fact, law, and policy for this rule. Further, DOE has received significant comment related to the accuracy and burden of the test procedure. As such, and consistent with the Presidential Memorandum of January 20, 2025, DOE further delays the effective date of this rule another 60-days to May 20, 2025.

To the extent that 5 U.S.C. 553 applies to this action, it is exempt from notice and comment because it constitutes a rule of procedure under 5 U.S.C. 553(b)(A) and for which no notice of hearing is required by statute. Further, the delay of the effective date to May 20, 2025, does not affect the compliance date for this rule, which remains July 7, 2025. As such, this action is not a “substantive rule” for which a 30-day delay in effective date is required under 5 U.S.C. 553(d).

Signing Authority

This document of the Department of Energy was signed on March 13, 2025, by Louis Hrkman, Principal Deputy Assistant Secretary for Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on March 13, 2025.
Treena V. Garrett,
Federal Register Liaison Officer, U.S. Department of Energy.

[FR Doc. 2025-04473 Filed 3-19-25; 8:45 am]

BILLING CODE 6450-01-P